ENVIRONMENTAL PROTECTION AGENCY

[OA-2003-0001, FRL-7444-2]

Agency Information Collection Activities: Proposed Collection and Comment Request; National Environmental Performance Track Program

AGENCY: Environmental Protection Agency (EPA).

ACTION: Notice.

SUMMARY: In compliance with the Paperwork Reduction Act (44 U.S.C. 3501 et seq.), this document announces that EPA is planning to submit a continuing Information Collection Request (ICR) to the Office of Management and Budget (OMB) to renew the existing Performance Track Program Level One: The Environmental Achievement Track ICR # 1949.01, OMB #2010-0032, scheduled to expire on June 30, 2003.

DATES: Comments must be submitted on or before March 28, 2003.

FOR FURTHER INFORMATION CONTACT: Robert D. Sachs by telephone at 202-566-2884, by facsimile at 202-566-0966, or by e-mail at sachs.robert@epa.gov.

SUPPLEMENTARY INFORMATION: EPA has established a public docket for this ICR under Docket ID number OA-2003-0001, which is available for public viewing at the Office of Environmental Information Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Office of Environmental Information Docket is (202) 566-1752. An electronic version of the public docket is available through EPA Dockets (EDOCKET) at http://www.epa.gov/edocket. Use EDOCKET to obtain a copy of the draft ICR, submit or view public comments, access the index listing of the contents of the public docket, and to access those documents in the public docket that are available electronically. Once in the system, select “search,” then key in the docket ID number identified above.

Any comments related to this ICR should be submitted to EPA and OMB within 60 days of this notice, and according to the following detailed instructions: (1) Submit your comments to EPA online using EDOCKET (our preferred method), by e-mail to oei.docket@epa.gov, or by mail to: EPA Docket Center, Environmental Protection Agency, Mailcode: 2201T, 1200 Pennsylvania Ave., NW., Washington, DC 20460, and (2) Mail your comments to OMB at: Office of Information and Regulatory Affairs, Office of Management and Budget (OMB), Attention: Desk Officer for EPA, 725 17th Street, NW., Washington, DC 20503.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov./edocket.

Affected entities: Entities potentially affected by this action are members of the National Environmental Performance Track Program.

Title: The National Environmental Performance Track Program (OMB #2010-0032; EPA ICR No. 1949.02) expiring June 30, 2003.

Abstract: EPA announced the National Environmental Performance Track program on June 26, 2000. The program is designed to recognize and encourage facilities that consistently meet their legal requirements, that have implemented management systems to monitor and improve performance, that have voluntarily achieved environmental improvements beyond compliance, and that publicly commit to specific environmental improvements and report on progress. Applications submitted by facilities are used by EPA and participating regulatory entities to determine whether the applicant qualifies for the program. A total of 277 facilities are current members of this voluntary program. Environmental Performance Track members are also required to submit an annual performance report documenting their environmental performance relative to the commitments they made upon entry into the program. This information is important to determine whether participants are meeting their commitments, as well as to evaluate the effectiveness of the program. The public reporting element of the program also provides information to the local community.

An agency may not conduct or sponsor, and a person is not required to respond to, a collection of information unless it displays a currently valid OMB control number. The OMB control numbers for EPA's regulations are listed in 40 CFR part 9 and 48 CFR chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: EPA estimates that all facilities who voluntarily respond to this information collection by electing to participate in the National Performance Track program have determined that the expected benefits of participation outweigh any burdens associated with preparing the response. EPA estimates that the application will require approximately 40 hours to complete, and post-acceptance activities such as a demonstration of compliance, Environmental Management System documentation and reporting, a demonstration of continuous improvement, reporting, and public outreach are estimated to require approximately 190 hours per facility. EPA estimates total respondent costs for the 277 current members to be $295,836 for the application phase and $1,497,531 for participation in the program. For an individual facility, EPA estimates the application phase to cost $1068.00 and program participation to cost $5406.25. Preparing and submitting the application is a one-time event and program participation activities occur on an annual basis provided that the facility remains a member of the program.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: January 14, 2003.
Daniel J. Fiorino,
Director, Performance Incentives Division.

[FR Doc. 03-1777 Filed 1-24-03; 8:45 am]

BILLING CODE 6560-50-P